FEDERAL COMMUNICATIONS COMMISSION

47 CFR Part 64

[CC Docket Nos. 96-115, 96-149; FCC 02-214]

Customer Proprietary Network Information

AGENCY: Federal Communications Commission.

ACTION: Final rule; announcement of effective date.

SUMMARY: The Commission adopted rules to implement section 222 of the Communications Act of 1934, as amended, which governs carriers' use and disclosure of customer proprietary network information. The rules in §§ 64.2007, 64.2008, and 64.2009 required Office of Management and Budget approval and the Commission stated previously in its Federal Register publication that it would announce the effective date of these rules when approved. This document announces the effective date of these rules.

DATES: The revisions to 47 CFR 64.2007, addition of 47 CFR 64.2008, and revision and amendments to 47 CFR 64.2009, published at 67 FR 59205, became effective on February 24, 2003.

FOR FURTHER INFORMATION CONTACT: William Dever, (202) 418-1578, Wireline Competition Bureau.

SUPPLEMENTARY INFORMATION: The FCC published a document in the Federal Register, 67 FR 59205, September 20, 2002, that sets forth an effective date of October 21, 2002, except for amendments to § 64.2007, addition of § 64.2008, and amendments and revisions to § 64.2009, which contained information collection requirements that had not been approved by the Office of Management and Budget. The document stated that the Commission will publish a document in the Federal Register announcing the effective date of these rules. On February 24, 2003, the Office of Management and Budget (OMB) approved the information collection requirements contained in 47 CFR 64.2007, 64.2008, and 64.2009 pursuant to OMB Control No. 3060-0715. Accordingly, the information collection requirement contained in these rules became effective on February 24, 2003. The expiration date for the information collection was February 28, 2006. The expiration date was extended to May 31, 2008 in 70 FR 30112.

Federal Communications Commission.
Marlene H. Dortch,
Secretary.

[FR Doc. E7-10722 Filed 6-7-07; 8:45 am]

BILLING CODE 6712-01-P